DEPARTMENT OF HOMELAND SECURITY

Coast Guard

33 CFR Part 117

[Docket No. USCG-2017-0055]

Drawbridge Operation Regulation; Cape Fear River, Wilmington, NC

AGENCY: Coast Guard, DHS.

ACTION: Notice of deviation from drawbridge regulation.

SUMMARY: The Coast Guard has issued a temporary deviation from the operating schedule that governs the Cape Fear Memorial Bridge which carries US 17 across the Cape Fear River, mile 26.8, at Wilmington, NC. The deviation is necessary to facilitate routine biennial maintenance and inspection of the lift span for the bridge. This deviation allows the bridge to remain in the closed-to-navigation position.

DATES: This deviation is effective from 9 a.m. on March 7, 2017, through 4 p.m. on March 17, 2017.

ADDRESSES: The docket for this deviation, [USCG-2017-0055] is available at http://www.regulations.gov. Type the docket number in the “SEARCH” box and click “SEARCH”. Click on Open Docket Folder on the line associated with this deviation.

FOR FURTHER INFORMATION CONTACT: If you have questions on this temporary deviation, call or email Mr. Mickey Sanders, Bridge Administration Branch Fifth District, Coast Guard; telephone (757) 398-6587, email Mickey.D.Sanders2@uscg.mil.

SUPPLEMENTARY INFORMATION: The North Carolina Department of Transportation, owner and operator of the Cape Fear Memorial Bridge that carries US 17 across the Cape Fear River, mile 26.8, at Wilmington, NC, has requested a temporary deviation from the current operating schedule to accommodate a routine biennial maintenance and inspection of the vertical lift span for the drawbridge. The bridge has a vertical clearance of 65 feet above mean high water (MHW) in the closed position and 135 feet above MHW in the open position.

The current operating schedule is set out in 33 CFR 117.822. Under this temporary deviation, the bridge will be maintained in the closed-to-navigation position for two separate four (4) day periods from 9 a.m. until 4 p.m. from March 7, 2017, through March 10, 2017, and from 9 a.m. until 4 p.m. from March 14, 2017, through March 17, 2017. During the closure periods, the bridge will open on signal if at least 3 hours notice is given. The bridge will open on signal at all other times.

The Cape Fear River is used by a variety of vessels including small commercial vessels, recreational vessels and tug and barge traffic. The Coast Guard has carefully considered the nature and volume of vessel traffic on the waterway in publishing this temporary deviation.

Vessels able to pass through the bridge in the closed position may do so if at least 15 minutes notice is given. The bridge will not be able to open for emergencies and there is no immediate alternate route for vessels unable to pass through the bridge in the closed position. The Coast Guard will also inform the users of the waterways through our Local and Broadcast Notice to Mariners of the change in operating schedule for the bridge so that vessel operators can arrange their transits to minimize any impact caused by this temporary deviation.

In accordance with 33 CFR 117.35(e), the drawbridge must return to its regular operating schedule immediately at the end of this effective period of this temporary deviation. This deviation from the operating regulations is authorized under 33 CFR 117.35.

Dated: February 23, 2017.
Hal R. Pitts,
Bridge Program Manager, Fifth Coast Guard District.

[FR Doc. 2017-03987 Filed 2-28-17; 8:45 am]

BILLING CODE 9110-04-P